DEPARTMENT OF JUSTICE

[AAG/A Order No. 220-2001]

Privacy Act of 1974; System of Records; Delay of Effective Date

AGENCY: Federal Bureau of Investigation, Department of Justice.

ACTION: Notice; delay of effective date.

SUMMARY: This action delays the effective date of the amendments to the Privacy Act notice for the National Instant Criminal Background Check System (Justice/FBI-018) published on January 22, 2001, at 66 FR 6676.

DATES: The effective date of the amendments to the Privacy Act notice for the National Instant Criminal Background Check System (Justice/FBI-018) published on January 22, 2001, at 66 FR 6676, is delayed for 60 days, from March 5, 2001, until May 4, 2001.

FOR FURTHER INFORMATION CONTACT: Mary E. Cahill, Management Analyst, Management and Planning Staff, Justice Management Division, Department of Justice, 1400 National Place Building, Washington, DC 20530.

SUPPLEMENTARY INFORMATION: The Department is delaying the effective date of the amendments to the Privacy Act notice published for the National Instant Criminal Background Check System (Justice/FBI-018) on January 22, 2001, at 66 FR 6676, for 60 days, from March 5, 2001 to a new effective date of May 4, 2001. This delay in effective date is being done in order to conform with the delayed effective date of the final rule entitled “National Instant Criminal Background Check System Regulation” published in the Federal Register on January 22, 2001, at 66 FR 6470, which is the basis for the amendments made in the Privacy Act notice. In accordance with the memorandum of January 20, 2001, from the Assistant to the President and Chief of Staff, entitled “Regulatory Review Plan,” published in the Federal Register on January 24, 2001 (66 FR 7702), the effective date of the final rule is being delayed for 60 days, from March 5, 2001, until May 4, 2001. The temporary 60-day delay in effective date is necessary to give Department of Justice officials the opportunity for further review and consideration of new regulations, consistent with the Assistant to the President's memorandum of January 20, 2001. The delay of effective date of the final rule entitled “National Instant Criminal Background Check Regulation” is published in the Rules section of this issue of the Federal Register.

Dated: February 13, 2001.
Stephen R. Colgate,
Assistant Attorney General for Administration.

[FR Doc. 01-4980 Filed 2-28-01; 8:45 am]

BILLING CODE 4410-02-M